DEPARTMENT OF TRANSPORTATION

Federal Motor Carrier Safety Administration

[Docket No. FMCSA-2023-0267]

RIN 2126-AB56

FMCSA Registration System Modernization

AGENCY: Federal Motor Carrier Safety Administration (FMCSA), Department of Transportation (DOT).

ACTION: Notice of hybrid public meeting.

SUMMARY: FMCSA announces a hybrid (in-person and virtual) public meeting to engage stakeholders, which includes motor carriers, brokers, freight forwarders, insurance companies, financial institutions, process agents, blanket companies, and transportation service providers; to get their perspective on improving the registration experience with FMCSA. This is the third iteration of the FMCSA Registration Modernization Stakeholder Day. The first meeting was held in person at FMCSA on January 17, 2024, and the second meeting was held virtually on May 29, 2024.

DATES: This hybrid (in-person and virtual) meeting will be held on October 21, 2024, from 1 to 4 p.m. EST. Parties interested in attending either in-person or virtually must register at the link provided below by 11:59 p.m. EST, on October 14, 2024.

ADDRESSES: The in-person meeting will take place at DOT Headquarters, 1200 New Jersey Ave. SE, Washington, DC 20590.

FOR FURTHER INFORMATION CONTACT: Gio Vizcardo, Knowledge Manager, Office of Registration, FMCSA, 1200 New Jersey Avenue SE, Washington, DC 20590-0001; (202) 366-0356; mcrs-social@dot.gov.

Services for individuals with disabilities: For information on facilities or services for individuals with disabilities or to request special assistance at the meeting, contact Gio Vizcardo using one of the above means by 11:59 p.m. EST, on September 21, 2024.

SUPPLEMENTARY INFORMATION:

Background

FMCSA is developing a new online registration system, to improve the transparency and efficiency of FMCSA's registration procedures as well as implement statutory requirements related to the registration program. FMCSA seeks user perspectives on improving the registration experience when engaging with FMCSA's registration system. During this meeting, FMCSA will invite attendees to participate after the initial presentations. FMCSA moderators will facilitate discussions on what potential users would like to see, as well as what would not be helpful from a user experience perspective.

Meeting Information

This meeting is intended for current and potential users of a new online registration system, including but not limited to:

• Motor carriers;

• Brokers and freight forwarders;

• Insurance companies/financial institutions and process agents/blanket companies; and

• Transportation service providers.

Those interested in attending this meeting must register at https://www.fmcsa.dot.gov/registration/fmcsa-registration-modernization-stakeholder-day-iii by 11:59 p.m. EST, on October 14, 2024. Please note that attendance will be capped at the first 100 (for in-person attendees) and 500 (for virtual attendees) registrants. In-person attendees will have an opportunity to conduct user-testing on portions of the new registration system.

The full meeting agenda will be available on the registration site in advance of the meeting.

Vincent G. White,
Deputy Administrator.

[FR Doc. 2024-21518 Filed 9-19-24; 8:45 am]

BILLING CODE 4910-EX-P